DEPARTMENT OF HOMELAND SECURITY

Bureau of Customs and Border Protection

[CBP Decision 04-04]

Recordation of Trade Name: “YOUPAL”

AGENCY: Customs and Border Protection (CBP).

ACTION: Notice of final action.

SUMMARY: This document gives notice that “YOUPAL” has been recorded by CBP as a trade name for Youpal International Inc., an Arkansas corporation organized under the laws of the State of Arkansas, 6900 Cantrell Road, E6, Little Rock, Arkansas 72207.

The application for trade name recordation was properly submitted to CBP and published in the Federal Register. As no public comments in opposition to the recordation of this trade name were received by CBP within the 60-day comment period, the trade name is duly recorded with CBP and will remain in force as long as this trade name is used by this corporation, unless other action is required.

EFFECTIVE DATE: January 28, 2004.

FOR FURTHER INFORMATION CONTACT: Gwendolyn Savoy, Paralegal Specialist, Intellectual Property Rights Branch, Office of Regulations and Rulings, U.S. Customs and Border Protection, 1300 Pennsylvania Avenue, NW., Mint Annex, Washington, DC 20229; (202) 572-8710.

SUPPLEMENTARY INFORMATION: Trade names adopted by business entities may be recorded with Customs and Border Protection (CBP) to afford the particular business entity with increased commercial protection. CBP procedures for recording trade names are provided at § 133.11 et seq., of the Customs Regulations (19 CFR 133.11 et seq.). Pursuant to these regulatory procedures, Youpal International Inc., an Arkansas corporation organized under the laws of the State of Arkansas, 6900 Cantrell Road, E6, Little Rock, Arkansas 72207, applied to CBP for protection of its trade name “YOUPAL”.

On Monday, October 20, 2003, CBP published a notice of application for the recordation of the trade name “YOUPAL” in the Federal Register (68 FR 59946). The notice advised that before final action would be taken on the application, consideration would be given to any relevant data, views, or arguments submitted in writing by any person in opposition to the recordation of this trade name. The closing day for the comment period was December 19, 2003.

As of the end of the comment period, December 19, 2003, no comments were received. Accordingly, as provided by § 133.14 of the Customs Regulations, “YOUPAL” is recorded with CBP as the trade name used by Youpal International Inc. and will remain in force as long as this trade name is used by this corporation, unless other action is required.

Dated: January 16, 2004.
George Frederick McCray,
Chief, Intellectual Property Rights Branch.

[FR Doc. 04-1753 Filed 1-27-04; 8:45 am]

BILLING CODE 4820-02-P